DEPARTMENT OF HOUSING AND URBAN DEVELOPMENT

[Docket No. FR-4564-N-05]

Notice of Proposed Information Collection: National Survey of Lead Hazards in Child Care Facilities

AGENCY: Office of Lead Hazard Control, HUD.

ACTION: Notice.

SUMMARY: The proposed information collection requirement concerning a National Survey to Assess Lead Hazards in child care facilities across the country will be submitted to the Office of Management and Budget (OMB) for review, as required by the Paperwork Reduction Act. The Department is soliciting public comments on the subject proposal.

DATES: Comments Due Date: August 28, 2000.

ADDRESSES: Interested persons are invited to submit comments regarding this proposal. Comments should refer to the proposal by name and/or OMB Control Number and should be sent to: Gail N. Ward, Reports Liaison Officer, Department of Housing and Urban Development, 451 7th Street, SW., Room P3206, Washington, DC 20410.

FOR FURTHER INFORMATION CONTACT: Joey Y. Zhou, (202) 755-1758 ext. 153 (this is not a toll-free number), for copies of the proposed forms and other available documents.

SUPPLEMENTARY INFORMATION: The Department is submitting the proposed information collection to OMB for review, as required by the Paperwork Reduction Act of 1995, (44 U.S.C. chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

Title of Proposal: National Survey of Lead Hazards in Child Care Facilities.

OMB Control Number: To be assigned.

Need for the Information and Proposed Use: Lead is a highly toxic heavy metal that adversely affects virtually every organ system in the body. Young children are particularly susceptible to the effects of lead. Lead poisoning remains one of the top childhood environmental health problems today. The most current national survey (1991-1994) shows that nearly 900,000 children are lead poisoned. A large body of evidence shows that the most common source of lead exposure for children today is lead paint in older housing and the contaminated dust and soil it generates. The Department of Housing and Urban Development (HUD) conducted a National Survey of Lead Hazards in Housing in 1999. This proposed survey on child care facilities is required to supplement the National Survey in residential homes. Young children may spend a significant portion of their time in child care facilities. Although child care facilities have the same painting history as does housing across the Nation, the environmental conditions and exposure characteristics maybe different. There is no systematic national survey previously done for lead hazards in child care facilities, and the extent of lead hazards in child care facilities is unknown. Results from this survey will provide current information needed for regulatory and policy decisions and enables an assessment of progress in making the U.S. housing stock lead-safe.

Agency Form Numbers: None.

Members of Affected Public: Operators of licensed child care facilities.

Total Burden Estimate (first Year):

Task | Number of respondents | × | Frequency of responses | × | Hours per response | = | Burden hours
Respondents | 220 |  | 1 |  | 3 |  | 660
Total Estimated Burden Hours: 660.

Status of the Proposed Information Collection: New request.

Authority: The Paperwork Reduction Act of 1995, 44 U.S.C. Chapter 35, as amended.

Dated: June 20, 2000.
David E. Jacobs,
Director, Office of Lead Hazard Control.

[FR Doc. 00-16189 Filed 6-26-00; 8:45 am]

BILLING CODE 4210-01-M